DEPARTMENT OF DEFENSE

Office of the Secretary

Meeting of the Secretary of Defense's Historical Records Declassification Advisory Panel

AGENCY: The Secretary of Defense's Historical Records Declassification Advisory Panel (“HRDAP”), Department of Defense.

ACTION: Notice of open meeting.

SUMMARY: Notice is hereby given of the forthcoming meeting of the Historical Records Declassification Advisory Panel (HRDAP). The purpose of this meeting is to discuss and form recommendations to the Secretary of Defense on issues involving the declassification and management of DoD classified, historical documents. This is the second session held in 2001. The OSD Historian will chair this meeting.

DATES: Friday, September 21, 2001.

TIME: The meeting is scheduled 9 a.m. to 3 p.m.

ADDRESSES: 1777 Kent Street, Arlington (Rosslyn), VA, Room 005, 14th Floor, Penthouse Conference Area.

FOR FURTHER INFORMATION CONTACT: LCDR James R. Van de Velde, Office of the Deputy Assistant Secretary of Defense (Security and Information Operations), Office of the Assistant Secretary of Defense (Command, Control, Communications and Intelligence), 6000 Defense Pentagon, Washington, DC 20302-6000, telephone (703) 602-0980, ext. 175.

Dated: September 4, 2001.
L.M. Bynum,
Alternate OSD Federal Register Liaison Officer, Department of Defense.

[FR Doc. 01-22702 Filed 9-10-01; 8:45 am]

BILLING CODE 5001-08-M